DEPARTMENT OF HOUSING AND URBAN DEVELOPMENT

[Docket No. FR-7050-N-47]

30-Day Notice of Proposed Information Collection: Comprehensive Listing of Transactional Documents for Mortgagors, Mortgagees and Contractors, OMB Control No.: 2502-0605

AGENCY: Office of the Assistant Secretary for Housing—Federal Housing Commissioner, HUD.

ACTION: Notice.

SUMMARY: HUD is seeking approval from the Office of Management and Budget (OMB) for the information collection described below. In accordance with the Paperwork Reduction Act, HUD is requesting comment from all interested parties on the proposed collection of information. The purpose of this notice is to allow for an additional 30 days of public comment.

DATES: Comments Due Date: September 26, 2022.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Colette Pollard, Reports Management Officer, REE, Department of Housing and Urban Development, 451 7th Street SW, Washington, DC 20410; email Colette Pollard at Colette.Pollard@hud.gov or telephone 202-402-3400. This is not a toll-free number. Copies of available documents submitted to OMB may be obtained from Ms. Pollard.

Copies of available documents submitted to OMB may be obtained from Mr. Hartung.

SUPPLEMENTARY INFORMATION: This notice informs the public that HUD is seeking approval from OMB for the information collection described in Section A and are available for review at: www.hud.gov/232comments. The following documents have been updated since the 60-Day Notice of Proposed Information Collection (FR-7038-N-17) as published on November 12, 2021. These documents include revisions for the implementation of the Section 232 Green Mortgage Insurance Premium as published in the Federal Register on May 19, 2022 (FR-6302-N-01): HUD-9001-ORCF, HUD-9002-ORCF, HUD-9003-ORCF, HUD-9004-ORCF, HUD-9005-ORCF, HUD-9005a-ORCF, HUD-9006-ORCF, HUD-9007-ORCF, HUD-9007a-ORCF, HUD-90013-ORCF, HUD-91124-ORCF, HUD-92466-ORCF, HUD-92467-ORCF, HUD-92464-ORCF, HUD-92476-ORCF.

A. Overview of Information Collection

Title of Information Collection: Comprehensive Listing of Transactional Documents for Mortgagors, Mortgagees and Contractors.

OMB Approval Number: 2502-0605.

OMB Expiration Date: November 30, 2022.

Type of Request: Revision of a currently approved collection.

Form Numbers: HUD-9001-ORCF, HUD-9002-ORCF, HUD-9003-ORCF, HUD-9004-ORCF, HUD-9005-ORCF, HUD-9005a-ORCF, HUD-9006-ORCF, HUD-9007-ORCF, HUD-9007a-ORCF, HUD-9009-ORCF, HUD-90010-ORCF, HUD-90011-ORCF, HUD-9444-ORCF, HUD-90012-ORCF, HUD-90013-ORCF, HUD-90014-ORCF, HUD-90015-ORCF, HUD-90016-ORCF, HUD-90017-ORCF, HUD-90018-ORCF, HUD-90021-ORCF, HUD-9442-ORCF, HUD-90023-ORCF, HUD-91123-ORCF, HUD-91124-ORCF, HUD-91125-ORCF, HUD-91127-ORCF, HUD-91129-ORCF, HUD-92328-ORCF, HUD-92403-ORCF, HUD-92408-ORCF, HUD-92415-ORCF, HUD-92437-ORCF, HUD-92441-ORCF, HUD-92441a-ORCF, HUD-92442-ORCF, HUD-92448-ORCF, HUD-92450-ORCF, HUD-92452-ORCF, HUD-92452A-ORCF, HUD-92455-ORCF, HUD-92456-ORCF, HUD-92479-ORCF, HUD-92485-ORCF, HUD-92554-ORCF, HUD-93305-ORCF, HUD-95379-ORCF, HUD-2-ORCF, HUD-935.2D-ORCF, HUD-941-ORCF, HUD-9445-ORCF, HUD-9839-ORCF, HUD-90022-ORCF, HUD-90024-ORCF, HUD-91116-ORCF, HUD-91126-ORCF, HUD-91130-ORCF, HUD-92000-ORCF, HUD-92264a-ORCF, HUD-92434-ORCF, HUD-90020-ORCF, HUD-92322-ORCF, HUD-92211-ORCF, HUD-92331-ORCF, HUD-92333-ORCF, HUD-92334-ORCF, HUD-92335-ORCF, HUD-92336-ORCF, HUD-92337-ORCF, HUD-92339-ORCF, HUD-92340-ORCF, HUD-92341-ORCF, HUD-92342-ORCF, HUD-92343-ORCF, HUD-2205A-ORCF, HUD-91110-ORCF, HUD-91111-ORCF, HUD-91112-ORCF, HUD-91118-ORCF, HUD-91710-ORCF, HUD-92023-ORCF, HUD-92070-ORCF, HUD-92071-ORCF, HUD-92223-ORCF, HUD-92323-ORCF, HUD-92324-ORCF, HUD-92330-ORCF, HUD-92330A-ORCF, HUD-92420-ORCF, HUD-92435-ORCF, HUD-92466-ORCF, HUD-92466A-ORCF, HUD-92468-ORCF, HUD-94000-ORCF, HUD-94000-ORCF-ADD, HUD-94000B-ORCF, HUD-94001-ORCF, HUD-94001-ORCF-RI, HUD-9443-ORCF, HUD-91071-ORCF, HUD-91128-ORCF, HUD-92412-ORCF, HUD-92414-ORCF, HUD-92464-ORCF, HUD-92476-ORCF, HUD-92476B-ORCF, HUD-92476C-ORCF, HUD-91117-ORCF, HUD-91725-ORCF, HUD-91725-INST-ORCF, HUD-91725-CERT-ORCF,HUD-92325-ORCF, HUD-92327-ORCF, HUD-1044-D-ORCF, HUD-2537-ORCF, HUD-2747-ORCF, HUD-9250-ORCF, HUD-9807-ORCF, HUD-90019-ORCF, HUD-90029-ORCF, HUD-90030-ORCF, HUD-90031-ORCF, HUD-90032-ORCF, HUD-90033-ORCF, HUD-92080-ORCF, HUD-92117-ORCF, HUD-92228-ORCF, HUD-92266-ORCF, HUD-92266A-ORCF, HUD-92266B-ORCF, HUD-92417-ORCF, HUD-93332-ORCF, HUD-93333-ORCF, HUD-93334-ORCF, HUD-93335-ORCF, HUD-93479-ORCF, HUD-93480-ORCF, HUD-93481-ORCF, HUD-93486-ORCF, HUD-91116A-ORCF, HUD-92211A-ORCF, HUD-92323A-ORCF, HUD-92324A-ORCF, HUD-92333A-ORCF, HUD-92338-ORCF, HUD-92340A-ORCF, HUD-92434A-ORCF, HUD-92441B-ORCF, HUD-92467-ORCF, HUD-92467A-ORCF, HUD-94000A-ORCF, HUD-94001A-ORCF.

Description of the need for the information and proposed use: The issuance of this notice is modeled on the public review and input process that HUD utilized in the establishment of the healthcare facility documents for Section 232 of the National Housing Act (Section 232) program. The collection includes documents comprising the application for FHA mortgage insurance of residential care facilities, and for servicing of the mortgages. The information is submitted from HUD-approved mortgagees, sponsors, mortgagors and contractors. The included documents are necessary for the application, review, commitment, initial/final endorsement, administration, servicing, technical oversight and audit of the Office of Residential Care Facilities projects pursuant to FHA Programs 232, 241, 223(f), 223(a)(7), 223(d) and 232(i) as authorized by the National Housing Act (sections 232, 241.)

Respondents: Businesses or other for profits.

Estimated Number of Respondents: 5,451.

Estimated Number of Responses: 27,163.

Frequency of Response: 730.

Average Hours per Response: 5.32.

Total Estimated Burden: 50,122.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) ways to minimize the burden of the collection of information on those who are to respond, including the use of automated collection techniques or other forms of information technology.

HUD encourages interested parties to submit comment in response to these questions.

C. Authority

Section 3507 of the Paperwork Reduction Act of 1995, 44 U.S.C. 3507.

Colette Pollard,
Department Reports Management Officer, Office of Policy Development and Research, Chief Data Officer.

[FR Doc. 2022-18414 Filed 8-25-22; 8:45 am]

BILLING CODE 4210-67-P